DEPARTMENT OF LABOR

Employment and Training Administration

Amended Certification Regarding Eligibility To Apply for Worker Adjustment Assistance

TA-W-72,075 Assembly & Test Worldwide, Inc., Currently Known As ATW Automation, Inc., Livonia Michigan

TA-W-72,075A Assembly & Test Worldwide, Inc., Currently Known As ATW Automation, Inc., Saginaw, Michigan

In accordance with Section 223 of the Trade Act of 1974, as amended (“Act”), 19 U.S.C. 2273, the Department of Labor issued a Certification of Eligibility to Apply for Worker Adjustment Assistance on January 27, 2010, applicable to workers of Assembly & Test Worldwide, Inc., Livonia, Michigan, Saginaw, Michigan, Lebanon, Missouri and Dayton, Ohio. The workers design, engineer, manufacture and integrate custom component assembly and test systems. The notice was published in the Federal Register on March 5, 2010 (75 FR 10321). The notice was amended on April 6, 2010 to include the Lake Zurich, Illinois and the Shelton, Connecticut locations of the subject firm. The amended notice was published in the Federal Register on April 19, 2010 (75 FR 20387).

At the request of the State agency, the Department reviewed the certification for workers of the subject firm. The company reports that as the result of a January 2011 acquisition, the Livonia, Michigan and Saginaw, Michigan locations of Assembly & Test Worldwide, Inc., are currently known as ATW Automation, Inc. Some workers separated from employment at the Livonia Michigan and Saginaw, Michigan locations of Assembly & Test Worldwide, Inc., had their wages reported under a separate unemployment insurance (UI) tax account under the name ATW Automation, Inc.

Accordingly, the Department is amending this certification to show that the Livonia, Michigan and Saginaw, Michigan locations of Assembly & Test Worldwide, Inc., are currently known as ATA Automation, Inc.

The intent of the Department's certification is to include all workers of the subject firm who were adversely affected by the shift in production of custom component assembly and test systems to Brazil, China and Germany.

The amended notice applicable to TA-W-72,075 is hereby issued as follows:

All workers of Assembly & Test Worldwide, Inc., currently known as ATW Automation, Inc., Livonia, Michigan (TA-W-72,075); Assembly & Test Worldwide, Inc., currently known as ATW Automation, Inc., Saginaw, Michigan (TA-W-72,075A); Assembly & Test Worldwide, Inc., Lebanon, Missouri (TA-W-72,075B); Assembly & Test Worldwide, Inc., Dayton, Ohio (TA-W-72,075C); Assembly & Test Worldwide, Lake Zurich, Illinois (TA-W-72,075D); and Assembly & Test Worldwide, Shelton, Connecticut (TA-W-72,075E), who became totally or partially separated from employment on or after August 10, 2008, through January 27, 2012, and all workers in the group threatened with total or partial separation from employment on date of certification through two years from the date of certification, are eligible to apply for adjustment assistance under Chapter 2 of Title II of the Trade Act of 1974, as amended.

Signed at Washington, DC this 28th day of March 2011.
Michael W. Jaffe,
Certifying Officer, Office of Trade Adjustment Assistance.

[FR Doc. 2011-8241 Filed 4-6-11; 8:45 am]

BILLING CODE 4510-FN-P